DEPARTMENT OF THE INTERIOR

Bureau of Land Management

[CO-600-05-1610-DF]

Notice of Public Meetings, Northwest Colorado Resource Advisory Council Meetings

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Northwest Colorado Resource Advisory Council (RAC) will meet as indicated below.

DATES: The Northwest Colorado RAC meetings will be held Jan. 21, 2005; Feb. 9, 2005; May 12, 2005; Aug. 11, 2005; and Nov. 10, 2005.

ADDRESSES: The Northwest Colorado RAC meetings will be held Jan. 21, 2005, at the Bill Heddles Recreation Center, located at 530 Gunnison River Dr., Delta, CO; Feb. 9, 2005, at the Battlement Mesa Activity Center, located at 0398 Arroyo Drive, Parachute, CO; May 12, 2005, at the BLM White River Field Office, located at 73544 Hwy. 64, Meeker, CO; Aug. 11, 2005, at the Wattenberg Center, Jackson County Fairgrounds, located at 686 County Road 42, Walden, CO; and Nov. 10, 2005, at the BLM Grand Junction Field Office located at 2815 H Rd. in Grand Junction, CO. All Northwest Colorado RAC meetings, with the exception of the Feb. 9, 2005 meeting, will begin at 8 a.m. and adjourn at approximately 3 p.m., and public comment periods regarding matters on the agenda will be at 2 p.m. during each meeting. The Feb. 9, 2005 meeting will begin at 2 p.m. and adjourn at 6 p.m. with a public comment period scheduled for 3 p.m.

FOR FURTHER INFORMATION CONTACT: Jamie Connell, BLM Glenwood Springs Field Office Manager, 50629 Hwy. 6&24, Glenwood Springs, CO; telephone 970-947-2800; or Melodie Lloyd, Public Affairs Specialist, 2815 H Rd., Grand Junction, CO, telephone 970-244-3097.

SUPPLEMENTARY INFORMATION: The Northwest Colorado RAC advises the Secretary of the Interior, through the Bureau of Land Management, on a variety of public land issues in Colorado.

The purpose of the Feb. 9, 2005 meeting is to discuss resource management-related topics for the Roan Plateau Draft Resource Management Plan. Topics of discussion for all other Northwest Colorado RAC meetings may include the BLM National Sage Grouse Conservation Strategy, committee reports, fire management, land use planning, invasive species management, energy and minerals management, travel management, wilderness, wild horse herd management, land exchange proposals, cultural resource management, and other issues as appropriate.

These meetings are open to the public. The public may present written comments to the RACs. Each formal RAC meeting will also have time, as identified above, allocated for hearing public comments. Depending on the number of persons wishing to comment and time available, the time for individual oral comments may be limited.

Dated: December 7, 2004.
John E. Husband,
Little Snake Field Office Manager and Designated Federal Officer for the Northwest Colorado RAC.

[FR Doc. 04-27277 Filed 12-10-04; 8:45 am]

BILLING CODE 4310-JB-P